DEPARTMENT OF HEALTH AND HUMAN SERVICES

Centers for Disease Control and Prevention

Disease, Disability, and Injury Prevention and Control Special Emphasis Panel: Occupational Safety and Health Research, SOH Conflict Review, Program Announcement #99-143

In accordance with section 10(a)(2) of the Federal Advisory Committee Act (Pub. L. 92-463), the Centers for Disease Control and Prevention (CDC) announces the following meeting:

Name: Disease, Disability, and Injury Prevention and Control Special Emphasis Panel (SEP): Occupational Safety and Health Research, SOH Conflict Review, Program Announcement #99-143.

Times and Dates: 1 p.m.-1:30 p.m., April 8, 2003 (open). 1:30 p.m.-5 p.m., April 8, 2003 (closed).

Place: Executive Park, Building 24, Conference Room 1525, Atlanta, GA 30329.

Phone: 404.498.2508.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to PA# 99-143.

Contact Person for More Information: Gwendolyn Cattledge, Ph.D., Scientific Review Administrator, National Institute Occupational for Safety and Health, CDC, 1600 Clifton Rd., NE., MS-E74, Atlanta, GA 30333, Telephone (404) 498-2586.

The Director, Management Analysis and Services Office has been delegated the authority to sign Federal Register notices pertaining to announcements of meetings and other committee management activities, for both the Centers for Disease Control and Prevention and the Agency for Toxic Substances and Disease Registry.

Dated: March 19, 2003.
Alvin Hall,
Director, Management Analysis and Services Office, Centers for Disease Control and Prevention (CDC).

[FR Doc. 03-7002 Filed 3-20-03; 1:21 pm]

BILLING CODE 4163-19-P